DEPARTMENT OF ENERGY

Federal Energy Regulatory Commission

Notice on Post-Technical Conference Procedures

June 23, 2005.

Capacity Markets in the PJM Region (Docket No. PL05-7-000); PJM Interconnection, LLC (Docket No. EL03-236-000); PJM Interconnection, LLC (Docket No. ER04-539-000); Promoting Regional Transmission Planning and Expansion to Facilitate Fuel Diversity Including Expanded Uses of Coal-Fired Resources (Docket No. AD05-3-000); PSEG Energy Resources and Trade, LLC (Docket No. ER05-644-000); PJM Interconnection, LLC (Docket No. RT01-2-000); New York Independent System Operator, Inc. (Docket No. ER04-1144-000)

On June 16, 2006, the Commission convened a technical conference in these proceedings to discuss the capacity markets in the PJM Interconnection, LLC region. The following procedures regarding the filing of comments were announced at the conclusion of the conference.

1. Comments are due on or before July 7, 2005, and reply comments are due on or before July 14, 2005.

2. Given the general level of understanding among participants regarding the proposed Reliability Pricing Model (RPM) and proposed alternatives, commenters are requested to refrain from discussing the proposals generally, but rather to respond to the following:

• Conditions under which a consensus could be reached on issues as to which the commenter does not currently support the resolution within the current RPM and alternative proposals, and as to which the commenter would be able to compromise; and if so, what would be required for that compromise;

• Position on issues raised at the technical conference;

• Elements of the RPM and alternative proposals that the commenter supports;

• Elements of- or changes to the current market proposals that could be phased in while further development and consensus are explored on remaining issues; and

• Identification of specific impediments to the completion of identified and proposed transmission projects; as well as, proposed fixes to the transmission planning process that will eliminate these impediments and facilitate the completion of identified projects.

The Commission encourages electronic submission of comments in lieu of paper using the “eFiling” link at http://www.ferc.gov. Persons unable to file electronically should submit an original and 14 copies of the comment to the Federal Energy Regulatory Commission, 888 First Street, NE., Washington, DC 20426.

All filings in this docket are accessible online at http://www.ferc.gov, using the “eLibrary” link and will be available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-3412 Filed 6-29-05; 8:45 am]

BILLING CODE 6717-01-P